DEPARTMENT OF ENERGY

Federal Energy Regulatory Commission

[Project No. 12775-001]

City of Spearfish, South Dakota; Notice of Availability of Draft Environmental Assessment

May 13, 2010.

In accordance with the National Environmental Policy Act of 1969 and the Federal Energy Regulatory Commission's (Commission or FERC) regulations, 18 Code of Federal Regulations (CFR) part 380 (Order No. 486, 52 Federal Register (FR) 47897), the Office of Energy Projects has reviewed the city of Spearfish's application for license for the Spearfish Hydroelectric Project (FERC Project No. 12775-001), located on Spearfish Creek near the city of Spearfish, in Lawrence County, South Dakota. The existing, but unlicensed project occupies a total of 57.26 acres of federal lands within the Black Hills National Forest managed by the U.S. Forest Service.

Staff prepared a draft environmental assessment (EA), which analyzes the potential environmental effects of licensing the project, and concludes that licensing the project, with appropriate environmental protective measures, would not constitute a major federal action that would significantly affect the quality of the human environment.

A copy of the draft EA is available for review at the Commission in the Public Reference Room or may be viewed on the Commission's Web site at www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via e-mail of new filings and issuances related to this or other pending projects. For assistance, contact FERC Online Support.

Any comments should be filed within 45 days from the date of this notice. Comments may be filed electronically via the Internet. See 18 CFR 385.2001(a)(1)(iii) and the instructions on the Commission's Web site (http://www.ferc.gov/docs-filing/ferconline.asp) under the “eFiling” link. For a simpler method of submitting text-only comments, click on “Quick Comment.” For assistance, please contact FERC Online Support. Although the Commission strongly encourages electronic filings, documents may also be paper-filed. To paper-file, mail an original and eight copies to: Kimberly D. Bose, Secretary, Federal Energy Regulatory Commission, 888 First Street, NE., Washington, DC 20426. Please affix Project No. 12775-001 to all comments.

For further information, contact Steve Hocking by telephone at (202) 502-8753 or by e-mail at steve.hocking@ferc.gov.

Kimberly D. Bose,
Secretary.

[FR Doc. 2010-12231 Filed 5-20-10; 8:45 am]

BILLING CODE 6717-01-P